DEPARTMENT OF COMMERCE

National Oceanic and Atmospheric Administration

[RTID 0648-XD292]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 149th Scientific and Statistical Committee (SSC) and its 196th Council meeting to take actions on fishery management issues in the Western Pacific Region. The Council will also hold meetings of the following standing committees: Pelagic and International Standing Committee (SC); Program Planning SC; Fishing Rights of Indigenous Peoples SC; and Executive and Budget SC.

DATES: The meetings will be held between September 12 and September 20, 2023. For specific times and agendas, see SUPPLEMENTARY INFORMATION.

ADDRESSES: The 149th SSC meeting will be held as a hybrid meeting for SSC members and the public, with a remote participation option available via WebEx. In-person attendance will be hosted at the Council office, 1164 Bishop Street, Suite 1400, Honolulu, HI 96813.

The Pelagic and International SC, Program Planning SC, Fishing Rights of Indigenous Peoples SC, and Executive and Budget SC meetings will be held in-person at the Council office, 1164 Bishop Street, Suite 1400, Honolulu, HI 96813.

The 196th Council Meeting will be held as a hybrid meeting for Council members and the public, with a remote participation option available via Webex. In-person attendance will be hosted at the Ala Moana Hotel, Hibiscus Ballroom, 410 Atkinson Drive, Honolulu, HI 96814.

Specific information on joining the meeting, connecting to the web conference and providing oral public comments will be posted on the Council website at www.wpcouncil.org. For assistance with the web conference connection, contact the Council office at (808) 522-8220.

Council address: Western Pacific Fishery Management Council, 1164 Bishop Street, Suite 1400, Honolulu, HI 96813.

FOR FURTHER INFORMATION CONTACT: Kitty M. Simonds, Executive Director, Western Pacific Fishery Management Council; phone: (808) 522-8220.

SUPPLEMENTARY INFORMATION: The 149th SSC meeting will be held between 9 a.m. and 5 p.m. Hawaii Standard Time (HST) on September 12-13, and 9 a.m. and 1 p.m. on September 14, 2023. The Pelagic and International SC meeting will be held between 9 a.m. and 11 a.m. HST on September 15, 2023. The Program Planning SC meeting will be held between 11:30 a.m. and 1:30 p.m. HST on September 15, 2023. The Fishing Rights of Indigenous Peoples SC meeting will be held between 2 p.m. and 4 p.m. on September 15, 2023. The Executive and Budget SC meeting will be held between 4:30 p.m. and 6:30 p.m. HST on September 15, 2023. The 196th Council Meeting will be held between 9 a.m. and 5 p.m. HST on September 18-20, 2023. Public Comment on Non-Agenda Items will be held between 4 p.m. and 4:30 p.m. HST on September 18, 2023. The Fishers Forum will be held between 6 p.m. and 9 p.m. HST on September 18, 2023.

Agenda items noted as “Final Action” refer to actions that may result in Council transmittal of a proposed fishery management plan, proposed plan amendment, or proposed regulations to the U.S. Secretary of Commerce, under Sections 304 or 305 of the MSA. In addition to the agenda items listed here, the Council and its advisory bodies will hear recommendations from Council advisors. An opportunity to submit public comment will be provided throughout the agendas. The order in which agenda items are addressed may change and will be announced in advance at the Council meeting. The meetings will run as late as necessary to complete scheduled business.

Background documents for the 196th Council meeting will be available at www.wpcouncil.org. Written public comments on final action items at the 196th Council meeting should be received at the Council office by 5 p.m. HST, Thursday, September 14, 2023, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website. This meeting will be recorded (audio only) for the purposes of generating the minutes of the meeting.

Agenda for the 149th SSC Meeting

Tuesday, September 12, 2023, 9 a.m. to 5 p.m. HST

1. Introductions

2. Approval of Draft Agenda and Assignment of Rapporteurs

3. Status of the 148th SSC Meeting Recommendations

4. Pacific Islands Fisheries Science Center (PIFSC) Director Report

5. Island Fisheries

A. American Samoa Bottomfish Management Unit Species

A.1. P* and SEEM Working Group Reports

A.2. Discontinuing the Rebuilding Plan and Setting Acceptable Biological Catch for 2024-2026 (Action Item)

B. Main Hawaiian Islands (MHI) Deep 7 Bottomfish Stock Assessment Western Pacific Stock Assessment Review (WPSAR) Terms of Reference

C. MHI Uku Ecosystem and Socioeconomic Profile Report Cards

D. Public Comment

E. SSC Discussion and Recommendations

6. Pelagic and International Fisheries

A. American Samoa Longline Fishery Report

B. Hawaii Longline Fishery Report

C. 2024 U.S. Territorial Bigeye Tuna Catch Limit and Allocation Specifications (Action Item)

D. Scenarios for Implementation of Electronic Monitoring in Western Pacific Longline Fisheries

E. Feasibility of Stock Assessments for Incidental Pelagic MUS

F. International Fisheries

F.1. Western and Central Pacific Ocean (WCPO) Longline Management Workshop

F.2. 19th Western and Central Pacific Fisheries Commission (WCPFC) Science Committee

F.3. 19th International Scientific Committee (ISC) Meeting

G. Public Comment

H. SSC Discussion and Recommendations

Wednesday, September 13, 2023, 9 a.m. to 5 p.m. HST

7. Protected Species

A. Green Sea Turtle Critical Habitat Proposed Designations

B. Update on the Hawaii Pelagic False Killer Whale Assessment Approach

C. Public Comment

D. SSC Discussion and Recommendations

8. Program Planning and Research

A. NMFS Draft Climate Governance Policy

B. Inflation Reduction Act Overview

C. Priorities for Addressing Climate Change in Fishery Management

C.1. NMFS National Activities and Priorities (including Ocean Climate Action Plan)

C.2. NMFS Regional Activities and Priorities (including Pacific Islands Regional Action Plan & Climate, Ecosystem and Fisheries Initiative)

C.3. PIFSC Funding Priorities for Climate-Ready Fisheries (including Inflation Reduction Act)

C.4. Council Management Priorities for Addressing Climate ChangeC.5 SSC Discussion on Climate Change and Fisheries Science Priorities for Management

D. Proposed Designation of a Pacific Remote Islands National Marine Sanctuary

D.1. Updates from Federal Agencies

D.2. Review of Existing Fishing Regulations and Options for Developing Fishing Regulations (Action Item)

E. Council five-year Program Plan Updates

F. Review of Council Research Priorities

G. Review of SSC Plan 2021-2023 and Development of 2024-2026 Plan

H. National Standards 4, 8 and 9 Review Working Group Report

I. National Academies of Sciences, Engineering, and Medicine (NASEM) Committee on Assessing Equity in the Distribution of Fisheries Management Benefits

J. Public Comment

K. SSC Discussion and Recommendations

Thursday, September 14, 2023, 9 a.m. to 1 p.m. HST

9. Other Business

A. December SSC Meetings Dates

10. Summary of SSC Recommendations to the Council

Agenda for the Pelagic and International SC Meeting

Friday, September 15, 2023, 9 a.m. to 11 a.m. HST

1. Hawaii and American Samoa Longline Fishery Updates

2. 2024 U.S. Territorial Bigeye Tuna Catch Limit and Allocation Specification (Action Item)

3. Scenarios for Implementing Electronic Monitoring in Western Pacific Longline Fisheries

4. Pacific Remote Island Areas Proposed Sanctuary Updates

5. Updates from the U.S. Department of State

6. 19th Scientific Committee of the WCPFC

7. Issues Leading into U.S. Permanent Advisory Committee to WCPFC

8. Advisory Group Report and Recommendations

7. Other Business

8. Public Comment

9. Discussion and Recommendations

Agenda for the Program Planning SC Meeting

Friday, September 15, 2023, 11:30 a.m. to 1:30 p.m. HST

1. Welcome and Introductions

2. Addressing Climate Change in Fishery Management

A. NMFS National and Regional Activities and Priorities

B. Ocean Climate Action Plan

3. Inflation Reduction Act

A. Council Management Priorities for Addressing Climate Change

B. Council Program Planning and Multi-year Priorities

4. Advisory Group Reports and Recommendations

5. Other Business

6. Public Comment

7. Discussion and Recommendations

Agenda for the Fishing Rights of Indigenous Peoples SC Meeting

Friday, September 15, 2023, 2 p.m. to 4 p.m. HST

1. Welcome and Introductions

2. Addressing Equity and Environmental Justice in Fisheries Management

A. Report on NASEM's Committee on Assessing Equity in the Distribution of Fisheries Management Benefits

B. Updates on NMFS EEJ Regional Implementation Plan

C. Report out on NMFS engagement in the Territories

D. Updates on Marine Resource Education Program (MREP)

3. Council Program Planning and Multi-year Priorities

4. Advisory Group Reports and Recommendations

5. Other Business

6. Public Comment

7. Discussion and Recommendations

Agenda for the Executive and Budget SC Meeting

Friday, September 15, 2023, 4:30 p.m. to 6:30 p.m. HST

1. Introductions and Approval of Agenda

2. Financial Reports

3. Administrative Reports

4. Inflation Reduction Act

5. Update on Program Planning

6. Climate Change Governance Policy

7. Council Family Changes

8. Territorial Fishery Management Plan Development

9. Meetings and Workshops

10. Other Business

11. Public Comment

12. Discussion and Recommendations

Agenda for the 196th Council Meeting

Monday, September 18, 2023, 9 a.m. to 5 p.m. HST

1. Welcome and Introductions

2. Oath of Office—New Council Members

3. Approval of the 196th CM Agenda

4. Approval of the 195th CM Meeting Minutes

5. Executive Director's Report

6. Agency Reports

A. National Marine Fisheries Service

A.1. Pacific Islands Regional Office

A.2. Pacific Islands Fisheries Science Center

B. NOAA Office of General Counsel Pacific Islands Section

C. Enforcement

C.1. U.S. Coast Guard

C.2. NOAA Office of Law Enforcement

C.3. NOAA Office of General Counsel Enforcement Section

D. U.S. State Department

E. U.S. Fish and Wildlife Service

F. Public Comment

G. Council Discussion and Action

7. Hawai`i Archipelago & Pacific Remote Island Areas (PRIA)

A. Moku Pepa

B. Department of Land and Natural Resources/Division of Aquatic Resources Report

C. Review of Fishing Regulations in the Pacific Remote Island Areas

D. Options for Developing Fishing Regulations in the Proposed Pacific Remote Islands National Marine Sanctuary (Initial Action)

E. MHI Deep 7 Bottomfish Stock Assessment WPSAR Terms of Reference

F. Hawaii Uku Fishery

F.1. Uku EBFM Project

F.2. MHI Uku Ecosystem and Socioeconomic Profile Report Card

G. Advisory Group Report and Recommendations

G.1. Advisory Panel

G.2. Pelagic Plan Team

G.3. Fishing Industry Advisory Committee

G.4. Scientific & Statistical Committee

H. Public Comment

I. Council Discussion and Action

Monday, September 18, 2023, 4 p.m. to 4:30 p.m. HST

Public Comment on Non-Agenda Items

Monday, September 18, 2023, 6 p.m. to 9 p.m. HST

Fishers Forum: What's in the Gut?

Tuesday, September 19, 2023, 9 a.m. to 5 p.m. HST

8. American Samoa Archipelago

A. Motu Lipoti

B. Department of Marine and Wildlife Resources Report

C. American Samoa Bottomfish

C.1. P* and SEEM Working Group Reports

C.2. Discontinuing the Rebuilding Plan and Annual Catch Limit Specifications for 2024-2026 (Initial Action)

D. Advisory Group Report and Recommendations

D.1. Advisory Panel

D.2. Fishing Industry Advisory Committee

D.3. Scientific & Statistical Committee

E. Public Comment

F. Council Discussion and Action

9. Mariana Archipelago

A. Guam

A.1. Department of Agriculture/Division of Aquatic and Wildlife Resources Report

A.2. Isla Informe

A.3. Review of the Guam Marine Conservation Plan (Action Item)

B. CNMI

B.1. Arongol Falú

B.2. Department of Land and Natural Resources/Division of Fish and Wildlife Report

B.3. Review of the CNMI Marine Conservation Plan (Action Item)

C. Advisory Group Report and Recommendations

C.1. Advisory Panel

C.2. Fishing Industry Advisory Committee

C.3. Scientific and Statistical Committee

D. Public Comment

E. Council Discussion and Action

10. Protected Species

A. Endangered Species Act and Marine Mammal Protection Act Updates

A.1. Green Sea Turtle Critical Habitat Proposed Designations

A.2. Other Updates

B. Update on the Hawaii Pelagic False Killer Whale Assessment Approach

C. Advisory Group Report and Recommendations

C.1. Advisory Panel

C.2. Fishing Industry Advisory Committee

C.3. Pelagic Plan Team

C.4. Scientific & Statistical Committee

D. Public Comment

E. Council Discussion and Action

Wednesday, September 20, 2023, 9 a.m. to 5 p.m. HST

11. Program Planning and Research

A. Climate Change Governance Policy

B. Inflation Reduction Act Overview

C. NMFS Priorities for Addressing Climate Change in Fishery Management

C.1. National Activities and Priorities (including Ocean Climate Action Plan)

C.2. Regional Activities and Priorities (including Pacific Islands Regional Action Plan and CEFI)

D. Council Program Planning and Multi-Year Priorities

D.1. Council Management Priorities for Addressing Climate Change

D.2. Inflation Reduction Act Planning

E. National Legislative Report

F. Report on National Standard 4, 8, & 9 Review

G. NASEM Committee on Assessing Equity in the Distribution of Fisheries Management Benefits

H. National Seafood Strategy

I. Regional Communications & Outreach Report

J. Advisory Group Report and Recommendations

J.1. Advisory Panel

J.2. Fishing Industry Advisory Committee

J.3. Pelagic Plan Team

J.4. Education Committee

J.5. Scientific & Statistical Committee

K. Program Planning Standing Committee Report

L. Fishing Rights of Indigenous People Standing Committee Report

M. Public Comment

N. Council Discussion and Action

12. Pelagic & International Fisheries

A. American Samoa Longline Fishery Report

B. Hawaii Longline Fishery Report

C. 2024 U.S. Territorial Bigeye Tuna Catch Limit and Allocation Specification (Final Action)

D. Scenarios for Implementing Electronic Monitoring in Western Pacific Longline Fisheries

E. International Fisheries

E.1. 19th Meeting of the ISC

E.2. 19th Scientific Committee of the WCPFC

E.3. 3rd Western and Central Pacific Ocean Longline Management Workshop

F. Advisory Group Report and Recommendations

F.1. Advisory Panel

F.2. Fishing Industry Advisory Committee

F.3. Pelagic Plan Team

F.4. Scientific & Statistical Committee

G. Pelagic and International Standing Committee Report

H. Public Comment

I. Council Discussion and Action

13. Administrative Matters

A. Financial Reports

B. Administrative Reports

C. Council Family Changes

D. Meetings and Workshops

E. Report on Program Plan

F. Executive and Budget Standing Committee Report

G. Public Comment

H. Council Discussion and Action

14. Other Business

Non-emergency issues not contained in this agenda may come before the Council for discussion and formal Council action during its 196th meeting. However, Council action on regulatory issues will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: August 23, 2023.
Rey Israel Marquez,
Acting Deputy Director, Office of Sustainable Fisheries, National Marine Fisheries Service.

[FR Doc. 2023-18492 Filed 8-25-23; 8:45 am]

BILLING CODE 3510-22-P